DEPARTMENT OF AGRICULTURE

Forest Service

Pacific Southwest Recreation Resource Advisory Committee

AGENCY: Forest Service, USDA.

ACTION: Notice of meeting.

SUMMARY: The Pacific Southwest Recreation Resource Advisory Committee (Recreation RAC) will meet in San Bernardino, California. The Recreation RAC is authorized under the Federal Lands Recreation Enhancement Act (REA) (Pub. L. 108-447) and operates in compliance with the Federal Advisory Committee Act (FACA) (Pub. L. 92-463). Additional information concerning the Recreation RAC can be found by visiting the Recreation RAC's Web site at: http://www.fs.usda.gov/main/r5/recreation/racs.

DATES: The meeting will be held on the following dates:

• Wednesday, January 15, 2014-10:00 a.m. to 5:00 p.m.

• Thursday, January 16, 2014-9:00 a.m. to 3:00 p.m. (meeting could end earlier)

ADDRESSES: The meeting will be held at the San Bernardino National Forest Supervisor's Office, 602 S. Tippecanoe Avenue, San Bernardino, California. Written comments may be submitted as described under Supplementary Information. All comments, including names and addresses, when provided, are placed in the record and available for public inspection and copying. The public may inspect comments received at the Region 5 Pacific Southwest Regional Office. Please call ahead to Ramiro Villalvazo, at 707-562-8856 to facilitate entry into the building. Attendees may participate via conference call. For anyone who would like to attend via conference call, please contact Ramiro Villalvazo at rvillalvazo@fs.fed.us or visit the Web site listed above.

FOR FURTHER INFORMATION CONTACT: Ramiro Villalvazo, Designated Federal Official, Region 5 Pacific Southwest Regional Office, by phone at 707-562-8856, or by email at rvillalvazo@fs.fed.us. Individuals who use telecommunication devices for the deaf (TDD) may call the Federal Information Relay Service (FIRS) at 1-800-877-8339 between 8:00 a.m. and 8:00 p.m., Eastern Standard Time, Monday through Friday.

SUPPLEMENTARY INFORMATION: The meeting is open to the public. The purpose of the meeting is to:

1. provide proposed fee changes for standard amenity recreation fee areas on the Angeles, Cleveland, Los Padres and San Bernardino National Forests,

2. review and make recommendations on the change in fee structure for Camp Discovery Group Campground, and

3. provide a fee increase at one site in Sycamore Grove Campground on the Mendocino National Forest.

The agenda will include time for people to make oral statements of three minutes or less. Individuals wishing to make an oral statement should submit a request in writing by January 8, 2014 to be scheduled on the agenda. Anyone who would like to bring related matters to the attention of the Recreation RAC may file written statements with the Recreation RAC staff by January 8, 2014. Written comments and time requests for oral comments must be sent to Ramiro Villalvazo, 1323 Club Drive, Vallejo, California 94592, or by email to rvillalvazo@fs.fed.us, or via facsimile to 707-562-9047. A summary of the meeting will be posted on the Web site listed above within 21 days after the meeting.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: December 19, 2013.
David Scholes,
Designated Federal Official.

[FR Doc. 2013-31005 Filed 12-26-13; 8:45 am]

BILLING CODE 3410-11-P